DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Supplemental Property Acquisition and Elevation Assistance.

OMB Number: 1660-0048.

Abstract: FEMA Form 20-10, Financial Status Report, is used to review States quarterly reports, to ensure that the overall program is progressing on schedule and that the projects meet the intent of the Act. States receiving a grant award are responsible for documenting and reporting to FEMA the use of program funds in accordance with the Act and implementing regulations. Sub-grantees (local governments) are responsible for implementing the grant scope of work and reporting quarterly to the Sate as to the project progress and status of funds received under the grant. The State will review reports from local communities to ensure grant projects are progressing on schedule and funds are being used appropriately.

Affected Public: State, Local or Tribal Government.

Number of Respondents: 56.

Estimated Time per Respondent: FEMA Form 20-10, Financial Status Report, 1 hour; and, Quarterly Progress Report, 4.2 hours.

Estimated Total Annual Burden Hours: 1,165.

Frequency of Response: Quarterly.

Comments: Interested persons are invited to submit written comments on the proposed information collection to the Office of Information and Regulatory Affairs at OMB, Attention: Desk Officer for the Emergency Preparedness and Response Directorate/Federal Emergency Management Agency, U.S. Department of Homeland Security, Office of Information and Regulatory Affairs, Office of Management and Budget, Docket Library, Room 10102, 725 17th Street NW., Washington, DC 20503. Comments must be submitted on or before August 13, 2004.

FOR FURTHER INFORMATION CONTACT: Requests for additional information or copies of the information collection should be made to Muriel B. Anderson, Chief, Records Management, FEMA at 500 C Street, SW., Room 316, Washington, DC 20472, facsimile number (202) 646-3347, or email address FEMA-Information-Collections@dhs.gov.

Dated: July 6, 2004.
George S. Trotter,
Acting Branch Chief, Information Resources Management Branch, Information Technology Services Division.

[FR Doc. 04-15900 Filed 7-13-04; 8:45 am]

BILLING CODE 9110-13-P